DEPARTMENT OF HOUSING AND URBAN DEVELOPMENT

[Docket No. FR-4579-FA-13]

Announcement of Funding Awards for Fiscal Year 2001 to the Housing Assistance Council and the Native American Indian Housing Council

AGENCY: Office of the Assistant Secretary for Policy Development and Research, HUD.

ACTION: Announcement of funding awards.

SUMMARY: In accordance with section 102(a)(4)(C) of the Department of Housing and Urban Development Reform Act of 1989, this document notifies the public of two awards for Fiscal Year 2001 to the Housing Assistance Council and the Native American Housing Council.

FOR FURTHER INFORMATION CONTACT: Patrick J. Tewey, Director, Budget, Contracts and Program Control Division, Office of Policy Development and Research, Room 8230, 451 7th Street, SW, Washington, DC 20410, telephone (202) 708-1796, extension 4098. To provide service for persons who are hearing- or-speech-impaired, this number may be reached via TTY by dialing the Federal Information Relay Service on 1-800-877-TTY, 1-800-877-8339, or 202-708-1455. (Telephone number, other than “800” TTY numbers are not toll free.)

SUPPLEMENTARY INFORMATION: The VA/HUD and Independent Agencies Appropriation Act of 2001 (Pub. L. 106-377) earmarked $3,000,000 for a grant to the Housing Assistance Council and $2,600,000 for a grant to the Native American Indian Housing Council. Subsequently, a .22 percent rescission of the Fiscal Year 2001 appropriation was enacted on December 21, 2000 (Pub. L. 106-554) resulting in a revised earmark amount of $2,993,400 for the Housing Assistance Council and $2,594,280 for the Native American Indian Housing Council. HUD's Office of Policy Development and Research administers these grants.

The Catalog of Federal Domestic Assistance for these grants is 14.225.

In accordance with section 102(a)(4)(C) of the Department of Housing and Urban Development Reform Act of 1989 (103 Stat. 1987, 42 U.S.C. 3545), the Department is publishing details concerning these awards, as follows:

Housing Assistance Council, Moises Loza, Executive Director, 1025 Vermont Avenue, NW, Suite 606, Washington, DC 20005, Grant Number H-21292CA, “Rural Housing Research and Technical Assistance” Amount $2,993,400, Date Awarded 10/01/00.

Native American Indian Housing Council, Luke Toyebo, Jr., Acting Executive Director, 900 Second Street, NE, Washington DC 20002, Grant # H-21351RG, Technical Assistance and Training to Indian Housing Agencies and Tribal Housing Agencies, Amount $2,594,280, Date Awarded 08/11/01.

Dated: January 2, 2002.
Lawrence L. Thompson,
General Deputy Assistant Secretary for Policy Development and Research.

[FR Doc. 02-1522 Filed 1-18-02; 8:45 am]

BILLING CODE 4210-62-P